SMALL BUSINESS ADMINISTRATION

[Declaration of Disaster #3635]

State of Florida; Amendment #2

In accordance with a notice received from the Department of Homeland Security—Federal Emergency Management Agency—effective November 3, 2004, the above numbered declaration is hereby amended to extend the deadline for filing applications for physical damages as a result of this disaster to December 31, 2004.

All other information remains the same, i.e., the deadline for filing applications for economic injury is June 27, 2005.

(Catalog of Federal Domestic Assistance Program Nos. 59002 and 59008)
Dated: November 9, 2004.
Herbert L. Mitchell,
Associate Administrator for Disaster Assistance.

[FR Doc. 04-25466 Filed 11-16-04; 8:45 am]

BILLING CODE 8025-01-P